FEDERAL HOUSING FINANCE BOARD

Sunshine Act Meeting

Announcing an Open Meeting of the Board

TIME AND DATE: 10 a.m., Monday, May 22, 2000.

PLACE: Board Room, Second Floor, Federal Housing Finance Board, 1777 F Street, NW, Washington, DC 20006.

STATUS: The entire meeting will be open to the public.

MATTERS TO BE CONSIDERED DURING PORTIONS OPEN TO THE PUBLIC:

• Proposed Rule: FHLBank Capital Structure.

CONTACT PERSON FOR MORE INFORMATION: Elaine L. Baker, Secretary to the Board, (202) 408-2837.

William W. Ginsberg,
Managing Director.

[FR Doc. 00-12631 Filed 5-16-00; 2:22 pm]

BILLING CODE 6725-01-P